JUDICIAL CONFERENCE OF THE UNITED STATES

Revision of Certain Dollar Amounts in the Bankruptcy Code Prescribed Under Section 104(B) of the Code

AGENCY: Judicial Conference of the United States.

ACTION: Notice.

SUMMARY: Certain dollar amounts in title 11, United States Code, are increased.

FOR FURTHER INFORMATION CONTACT: Francis F. Szczebak, Chief, Bankruptcy Judges Division, Administrative Office of the United States Courts, Washington, DC 20544, telephone (202) 502-1900.

SUPPLEMENTARY INFORMATION: Section 108 of the Bankruptcy Reform Act of 1994 established the mechanism for the automatic 3-year adjustment of dollar amounts in certain sections of the Bankruptcy Code by adding subsection (b) to section 104 of title 11. That provision states:

(b)(1) On April 1, 1998, and at each 3-year interval ending April 1 thereafter, each dollar amount in effect under [the designated sections of the code] immediately before such April 1 shall be adjusted—

(A) to reflect the change in the Consumer Price Index for All Urban Consumers, published by the Department of Labor, for the most recent 3-year period ending immediately before January 1 preceding such April 1, and

(B) to round to the nearest $25 the dollar amount that represents such change.

(2) Not later than March 1, 1998, and at each 3-year interval ending on March 1 thereafter, the Judicial Conference of the United States shall publish in the Federal Register the dollar amounts that will become effective on such April 1 under sections 109(e), 303(b), 507(a), 522(d), and 523(a)(2)(C) [of the Bankruptcy Code].

(3) Adjustments made in accordance with paragraph (1) shall not apply with respect to cases commenced before the date of such adjustments.

Revision of Certain Dollar Amounts in Bankruptcy Code

Notice is hereby given that the dollar amounts are increased in the sections in title 11, United States Code, as set out in the following chart. These increases do not apply to cases commenced before the effective date of the adjustments, i.e., April 1, 2004. Official Bankruptcy Forms 6E and 10 also will be amended to reflect these adjusted dollar amounts.

Dated: February 18, 2004.
Francis F. Szczebak,
Chief, Bankruptcy Judges Division.

11 U.S.C. | Dollar amount to be adjusted | New (adjusted) dollar amount
Section 109(e)—allowable debt limits for filing bankruptcy under Chapter 13 | ¹ $290,525 871,550 | ¹ $307,675 922,975
Section 303(b)—minimum aggregate claims needed for the commencement of an involuntary bankruptcy:
(1)—in paragraph (1) | 11,625 | 12,300
(2)—in paragraph (2) | 11,625 | 12,300
Section 507(a)—priority claims:
(1)—in paragraph (3) | 4,650 | 4,925
(2)—in paragraph (4)(B)(i) | 4,650 | 4,925
(3)—in paragraph (5) | 4,650 | 4,925
(4)—in paragraph (6) | 2,100 | 2,225
Section 522(d)—value of property exemptions allowed to the debtor:
(1)—in paragraph (1) | 17,425 | 18,450
(2)—in paragraph (2) | 2,775 | 2,950
(3)—in paragraph (3) | 450 9,300 | 475 9,850
(4)—in paragraph (4) | 1,150 | 1,225
(5)—in paragraph (5) | 925 8,725 | 975 9,250
(6)—in paragraph (6) | 1,750 | 1,850
(7)—in paragraph (8) | 9,300 | 9,850
(8)—in paragraph (11)(D) | 17,425 | 18,450
Section 523(a)(2)(C)—“luxury goods and services” or cash advances obtained by the consumer debtor within 60 days before the filing of a bankruptcy petition, which are considered nondischargeable | ¹ 1,150 | ¹ 1,225
¹ Each time it appears.

[FR Doc. 04-3889 Filed 2-23-04; 8:45 am]

BILLING CODE 2210-55-P